DEPARTMENT OF COMMERCE

Submission for OMB Review; Comment Request

The Department of Commerce will submit to the Office of Management and Budget (OMB) for clearance the following proposal for collection of information under the provisions of the Paperwork Reduction Act.

Agency: U.S. Census Bureau.

Title: Redistricting Data Program.

OMB Control Number: 0607-0988.

Form Number(s): Not available.

Type of Request: Regular submission.

Number of Respondents: 52.

Average Hours per Response: 217 hours.¹

¹ The respondent burden was incorrectly estimated at 72 hours in the previously published 60-day Federal Register notice. This mistake is corrected in the 30-day FRN. The 72 hours was estimated over each year of clearance. However, since respondent will incur burden only in 2019 and 2020, the Census Bureau re-estimates the respondent burden over these two years. The respondent burden hour is now 217 hours, which is obtained by dividing the total estimated hour burden with the number of respondents (11,284/52).

Estimated Total Burden Hours: 11,284.

Voting District Project (VTDP) Verification Round 1: 6,448 hours.

VTDP Verification Round 2: 4,836 hours.

Phases/activities | Estimated total hour burden per fiscal year (FY): Currently approved OMB: 2016 | Estimated total hour burden per fiscal year (FY): Currently approved OMB: 2017 | Estimated total hour burden per fiscal year (FY): Currently approved OMB: 2018 | Estimated total hour burden per fiscal year (FY): Renewal: 2019 | Estimated total hour burden per fiscal year (FY): Renewal: 2020 | Estimated total hour burden per fiscal year (FY): Renewal: 2021
Block Boundary Suggestion Project (BBSP) Annotation Phase 1 | 6,448 |  |  |  |  |
BBSP Verification Phase 2 |  | 3,224 |  |  |  |
VTDP Delineation Phase 1 |  |  | 12,896 |  |  |
VTDP Verification round one |  |  |  | 6,448 |  |
VTDP Verification round two |  |  |  |  | 4,836 |
Total Estimated Hour Burden | 22,984 |  |  | 11,284

Needs and Uses: The 2020 Census Redistricting Data Program (RDP) is one of many voluntary programs that collects boundaries to update the U.S. Census Bureau's geographic database of addresses, streets, and boundaries. The Census Bureau uses its geographic database to link demographic data from surveys and the decennial census to locations and areas, such as cities, congressional and legislative districts, and counties. To tabulate statistics by localities, the Census Bureau must have accurate addresses and boundaries.

Specifically, the RDP provides states the opportunity to delineate voting districts and to suggest census block boundaries for use in the 2020 Census redistricting data tabulations (Pub. L. 94-171 Redistricting Data File). In addition, the RDP periodically collects state legislative and congressional district boundaries if they are changed by the states. After the 2020 Census, states will use 2020 data tabulated for census blocks, voting districts, and possibly other geographic areas such as cities, counties, etc., as considerations when they draw their new congressional and legislative district boundaries. States are the only authority that can choose where and how to draw their boundaries. The boundaries collected in the RDP and other geographic programs will create census blocks, which are the building blocks for all Census Bureau geographic boundaries. While the geographic programs differ in requirements, time frame, and participants, the RDP and the other geographic programs all follow the same basic process:

1. The Census Bureau invites eligible participants to the program. For the RDP, the Census Bureau invites non-partisan state liaisons appointed by the legislative leadership of each state.

2. If they elect to participate in the program, participants receive a digital copy of the boundaries the Census Bureau has on file. Participants review the boundaries and update them if needed. RDP participants can choose to review and provide their boundary updates using a free customized mapping software, or their own mapping software.

3. Participants return their updates to the Census Bureau.

4. The Census Bureau updates their geographic database with boundary updates from participants.

5. The Census Bureau uses the newly updated boundaries and addresses to tabulate statistics.

The Census Bureau is requesting a clearance to continue the RDP. As the current Office of Management and Budget (OMB) Control Number 0607-0988 will expire in November 2018, the new clearance will allow the Census Bureau to provide RDP-specific materials and procedures to participants during the Fiscal Year (FY) 2019, 2020, and 2021. Liaisons from the 50 states, the District of Columbia, and the Commonwealth of Puerto Rico will be updating and verifying the boundaries of their voting districts during the implementation of the Phase 2 of the Voting District Project (VTDP). The Census Bureau has partitioned the RDP into five phases:

Phase 1: Block Boundary Suggestion Project (BBSP) (2015-2017)

Between 2015 and 2017, the Census Bureau collaborated with non-partisan liaisons designated by each state to collect and verify suggestions for 2020 Census tabulation blocks in the Block Boundary Suggestion Project (BBSP). States submitted suggested legal boundary updates as well as updates to other geographic areas. These actions allow states to construct some of the small area geography they need for legislative redistricting. Phase 1 was conducted in two parts, an initial identification of the updates needed, and a verification stage to ensure the suggested updates were accurately applied. States that chose to participate in Phase 1 received guidelines and training for providing their suggestions.

Phase 2: Voting District Project (VTDP) (2018-2020)

The VTDP Phase 2 of the RDP provides states the opportunity to submit their voting districts (ex. wards, precincts, etc.) for inclusion in the 2020 Census Redistricting Data tabulations (Pub. L. 94-171). Non-partisan liaisons designated by the states submit their voting districts boundaries and suggest legal boundary updates to the Census Bureau. Phase 2 is conducted in three stages (Table 2).

Table 2—VTDP Stages and Schedule
Stage | Schedule
1. Initial Identification of Updates | December 2017-May 2018.
2. Verification of Updates I | December 2018-May 2019.
3. Verification of Updates II | December 2019-March 2020.

The first two stages are an initial identification of the voting districts and a verification stage to ensure the suggested updates were accurately applied. The third part is an additional round of verification, for those states participating in the first two stages, to further review and adjust the voting districts if associated geographies changed.

States that choose to participate in VTDP receive geographic products that allow them the opportunity to update the voting districts for inclusion in the 2020 Census tabulation geography.

Phase 3: Delivery of the 2020 Census Redistricting Data (2021)

By April 1, 2021, the Director of the Census Bureau will, in accordance with Title 13, U.S.C., furnish the Governor and state legislative leaders, both the majority and minority, and any public bodies responsible for legislative redistricting, with 2020 Census population counts for standard census tabulation areas (e.g., states, congressional districts, state legislative districts, American Indian areas, counties, cities, towns, census tracts, census block groups, and census blocks) regardless of a state's participation in Phase 1 or 2. The Director of the Census Bureau will provide 2020 Census population counts for those states participating in Phase 2, for both the standard tabulation areas and for voting districts. For each state, this delivery will occur no later than April 1, 2021.

Phase 4: Collection of Post-Census Redistricting Data Plans (2021-2022)

Between November 2021 and May 2022, the Census Bureau will solicit from each state the boundaries of the newly drawn 118th Congressional Districts and State Legislative Districts. This effort will occur every two years in advance of the 2030 Census in order to update these boundaries with new or changed plans. A verification phase will occur with each update.

Phase 5: Review of the 2020 Census RDP and Recommendations for the 2030 Census RDP (2020 Post-Data Collection)

As the final phase of the 2020 Census RDP, the Census Bureau will work with the states to conduct a thorough review of the RDP. The intent of this review, and the final report that results, is to provide guidance to the Secretary of Commerce and the Census Bureau Director in planning the 2030 Census RDP.

The Census Bureau issued invitation letters by mail (U.S. Postal Service) and follow-up emails to the officers or public bodies having initial responsibility for legislative reapportionment and redistricting. The 50 states, the District of Columbia, and the Commonwealth of Puerto Rico have identified non-partisan liaisons that are already working directly with the Census Bureau on the 2020 Census RDP.

In addition, to begin work on Phase 1 and Phase 2, the Census Bureau provides to states data from the Master Address File/Topologically Integrated Geographic Encoding and Referencing system, the Geographic Update Program Software (GUPS) (an optional software tool), and the procedures necessary for each state to participate. States are not required to use GUPS, but they have to submit their submission to the Census Bureau electronically in Census Bureau-specified formats. During the submission period, the Census Bureau provides training in the use of GUPS and assists the states in understanding the procedures necessary for processing files for their submission.

Affected Public: All 50 states, the District of Columbia, and the Commonwealth of Puerto Rico.

Frequency: Annual.

Respondent's Obligation: Voluntary.

Legal Authority: Title 13, U.S.C., sections 16, 141, and 193.

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer.

[FR Doc. 2018-15972 Filed 7-25-18; 8:45 am]

BILLING CODE 3510-07-P